DEPARTMENT OF THE INTERIOR

Fish and Wildlife Service

50 CFR Part 17

RIN 1018-AU49

Endangered and Threatened Wildlife and Plants; Proposed Threatened Status for Penstemon grahamii (Graham's beardtongue) With Critical Habitat

AGENCY: Fish and Wildlife Service, Interior.

ACTION: Proposed rule; reopening of public comment period and notice of public hearing.

SUMMARY: We, the U.S. Fish and Wildlife Service (Service), announce the reopening of the public comment period on the proposed rule to determine threatened status and to designate critical habitat for Penstemon grahamii (Graham's beardtongue) under the Endangered Species Act of 1973 as amended (Act). Reopening the public comment period will allow an additional opportunity for interested parties to comment on the proposed rule. Comments previously submitted on the proposed rule need not be resubmitted as they have already been incorporated into the public record and will be fully considered in any final decision. We will also hold a public hearing on the proposed rule.

DATES: Comments: We will accept written comments on the proposed rule until May 19, 2006. Any comments received after the closing date may not be considered in the final determination on the proposal. Public Hearing: The public hearing will be held on Wednesday, April 26, 2006, from 7 p.m. to 9 p.m.

ADDRESSES: Comments: If you wish to comment, you may submit your comments and materials by any one of several methods:

1. You may submit written comments and information by mail or hand-delivery to Field Supervisor, U.S. Fish and Wildlife Service, Utah Field Office, 2369 West Orton Circle, Suite 50, West Valley City, Utah 84119.

2. You may fax your comments to Field Supervisor, U.S. Fish and Wildlife Service, Utah Field Office at 801-975-3331.

3. You may send comments by electronic mail (e-mail) to fw6_penstemongrahamii@fws.gov. Please see the Public Comments Solicited section below for file format and other information about electronic filing.

All comments and materials received, as well as supporting documentation used in preparation of the proposed rule, will be available for public inspection, by appointment, during normal business hours at the Utah Field Office.

Public Hearing: The public hearing will be held at the Uintah County Building, 152 East 100 North, Vernal, Utah.

FOR FURTHER INFORMATION CONTACT: John L. England, Utah Field Office (address above), telephone 801-975-3330, extension 138.

SUPPLEMENTARY INFORMATION:

Public Comments Solicited

We expect any final rule resulting from the proposal to be as accurate and effective as possible. Therefore, we are soliciting comments from the public, other concerned governmental agencies, the scientific community, industry, or any other interested party concerning the proposed rule. Comments particularly are sought concerning:

Critical Habitat

We seek specific information on:

(1) Biological, commercial trade, or other relevant data concerning any threat (or lack thereof) to this species;

(2) Additional information concerning the range, distribution, and population size of this species, including the locations of any additional populations of this species;

(3) Current or planned activities in the subject area and their possible impacts on this species;

(4) Reasons why any habitat should or should not be determined to be critical habitat for this species pursuant to section 4 of the Act; and

(5) Any foreseeable economic or other impacts resulting from the proposed designation of critical habitat.

It is our practice to make all comments, including names and addresses of respondents who provide that information, available for public review following the conclusion of the rulemaking process. Individuals may request that we withhold their name and/or address from public disclosure. If you wish to do this, you must state this prominently at the beginning of your comment. We will honor such requests to the extent allowable by law, but you should be aware that we may still be required to disclose your name and address pursuant to the Freedom of Information Act (5 U.S.C. 552). We will make all submissions from organizations or businesses, and from individuals identifying themselves as representatives or officials of organizations or businesses, available for public inspection in their entirety. Comments and materials received will be available for public inspection, by appointment, during normal business hours (see ADDRESSES).

All previous comments and information submitted during the initial comment period on the proposed rule need not be resubmitted. Please submit electronic comments in ASCII file format, and avoid the use of any special characters or any form of encryption. Also, please include “Attn: RIN 1018-AU49” in the subject line, and your name and return address in your e-mail message.

Background

On January 19, 2006, we published a proposed rule in the Federal Register (71 FR 3158) to determine Penstemon grahamii (Graham's beardtongue), a plant species from Colorado and Utah, to be a threatened species under the Act (16 U.S.C. 1531 et seq.). We further proposed to designate critical habitat for this plant. We accepted public comments on the proposed rule for 60 days, ending March 20, 2006.

Penstemon grahamii is an herbaceous perennial plant that exists in a series of small populations that extend in a narrow band from Raven Ridge west of the town of Rangely in Rio Blanco County, Colorado, westward to the vicinity of Sand Wash near the point where Carbon, Duchesne, and Uintah Counties meet in Utah's Uinta Basin. The species' habitat is a discontinuous series of exposed raw shale knolls and slopes derived from the Parachute Creek and Evacuation Creek members of the geologic Green River Formation. Most populations are associated with the surface exposure of the petroleum bearing oil shale Mahogany ledge.

Threats to the species may include degradation of the species' habitat by oil and gas exploration, drilling and field development, and tar sand and oil shale mining. Off-road vehicle use, overutilization by domestic and wild grazers, and overutilization for horticultural use also may affect some populations. These threats, in combination with small population sizes and limited distribution, could result in species' vulnerability to natural and human-caused stochastic events. The proposal, if made final, would determine threatened status for this plant and implement Federal protection under the Act.

In addition, we proposed to designate 2,102 hectares (3,504 acres) as critical habitat for P. grahamii in five units in Rio Blanco County, Colorado, and Duchesne and Uintah Counties, Utah.

Public Hearing

We will conduct a public hearing on the date and at the address described in the DATES and ADDRESSES sections above.

Anyone wishing to make an oral statement for the record is encouraged to provide a written copy of their statement and present it to us at the hearing. In the even there is a large attendance, the time allotted for oral statements may be limited. Oral and written statements receive equal consideration. There are no limits on the length of written comments submitted to us. If you have any questions concerning the public hearing, please contact the Utah Field Office (see ADDRESSES).

Persons needing reasonable accommodations in order to attend and participate in the public hearings should contact the Utah Field Office at 801-975-3330 as soon as possible. In order to allow sufficient time to process requests, please call no later than one week before the hearing date.

Authority

The authority for this action is the Endangered Species Act of 1973 (16 U.S.C. 1531 et seq.).

Dated: April 7, 2006.
Matt Hogan,
Acting Assistant Secretary for Fish and Wildlife and Parks.

[FR Doc. 06-3578 Filed 4-11-06; 10:06 am]

BILLING CODE 4310-55-P